DEPARTMENT OF HEALTH AND HUMAN SERVICES

Substance Abuse and Mental Health Services Administration

Fiscal Year (FY) 2023 Funding Opportunity

AGENCY: Substance Abuse and Mental Health Services Administration, Department of Health and Human Services (HHS).

ACTION: Notice of intent to award a single source cooperative agreement to Mental Health Association of New York City, Inc. (DBA Vibrant Emotional Health).

SUMMARY: This notice is to inform the public that the Substance Abuse and Mental Health Services Administration (SAMHSA) intends to award $62,000,000 (total costs) for up to one year to Vibrant Emotional Health for the 988 National Suicide Prevention Lifeline Expansion for Behavioral Health Crisis Response (Lifeline Expansion). These funds will allow Vibrant Emotional Health to ensure effective and continuous operations of the national Lifeline backup, chat/text, Spanish and LGBTQI+ youth crisis center networks, administrative and leadership support to ensure training, evaluation, personnel, and committee oversight and implementation, and continued development of the Lifeline unified platform and information technology integration for local and national crisis centers.

FOR FURTHER INFORMATION CONTACT: James Wright, Substance Abuse and Mental Health Services Administration, 5600 Fishers Lane, Rockville, MD 20857; telephone: (240) 276-1615; email: james.wright@samhsa.hhs.gov.

SUPPLEMENTARY INFORMATION: This funding will: (1) fund national Lifeline backup, chat/text, Spanish and specialized service networks; (2) expand training and resources for high-risk populations; and (3) improve unified data management across the 988 Lifeline crisis centers nationwide for the contact growth during the first quarter of FY 2023. This is not a formal request for application. Assistance will be provided only to Vibrant Emotional Health based on the receipt of a satisfactory application that is approved by an independent review group.

Funding Opportunity Title: 988 Suicide and Crisis Lifeline Operations.

Assistance Listing Number: 93.243.

Authority: Section 520E-3 of the Public Health Service Act, as amended.

Justification: Eligibility for this award is limited to the Mental Health Association of New York City, Inc. (DBA Vibrant Emotional Health). Since 2005, Vibrant Emotional Health has provided oversight and management of the Suicide Prevention Lifeline and its local call centers, backup centers, and chat/text functions with a network of over 180 centers in all fifty states. This longstanding history has positioned Vibrant Emotional Health as the only identified organization with the required experience and national reach to work with the backup centers and chat/text organizations with expansion of their workforce and development of the infrastructure to improve unified data management across centers.

Vibrant Emotional Health's history, experience, and ongoing communications with these centers have been critical to ensure sufficient capacity was in place for the July 2022 transition to 988. Several external evaluations have reinforced the evidence of effectiveness of Lifeline services through oversight of the Lifeline by Vibrant Emotional Health. It would not be possible for any other organization to establish the relationships with crisis centers that Vibrant Emotional Health has built over the last 15 years and could run the risk of significant numbers of unanswered calls, chats, and texts. In addition, if these funds were awarded to another organization, oversight of the expanded backup and chat/text centers would be fragmented, and the network would run the risk of inefficiencies and adverse outcomes to individuals in crisis. Vibrant Emotional Health has long been recognized throughout the nation for its state-of-art technology-enabled services, community wellness programs, and advocacy and education work and is uniquely qualified to carry-out the requirements of this funding opportunity.

Alicia Broadus,
Public Health Advisor.

[FR Doc. 2022-24793 Filed 11-14-22; 8:45 am]

BILLING CODE 4162-20-P